DEPARTMENT OF TRANSPORTATION

Federal Aviation Administration

RTCA PMC Program Management Committee Plenary

AGENCY: Federal Aviation Administration (FAA), U.S. Department of Transportation (DOT).

ACTION: RTCA PMC Program Management Committee Plenary.

SUMMARY: The FAA is issuing this notice to advise the public of a meeting of RTCA PMC Program Management Committee Plenary.

DATES: The meeting will be held June 21, 2018 8:30 a.m.-4:30 p.m.

ADDRESSES: The meeting will be held at: RTCA Headquarters, 1150 18th Street NW, Suite 910, Washington, DC 20036.

FOR FURTHER INFORMATION CONTACT: Karan Hofmann at khofmann@rtca.org or 202-330-0680, or The RTCA Secretariat, 1150 18th Street NW, Suite 910, Washington, DC, 20036, or by telephone at (202) 833-9339, fax at (202) 833-9434, or website at http://www.rtca.org.

SUPPLEMENTARY INFORMATION: Pursuant to section 10(a) (2) of the Federal Advisory Committee Act (Pub. L. 92-463, 5 U.S.C., App.), notice is hereby given for a meeting of the RTCA PMC Program Management Committee Plenary. The agenda will include the following:

1. Welcome and Introductions

2. Review/Approve

a. Meeting Summary March 22, 2018

b. Administrative SC TOR Revisions

3. Publication Consideration/Approval

a. New Document—MOPS for GNSS Active Antenna in the L1/E1 and L5/E5A Bands prepared by SC-159 (Navigation Equipment Using the Global Navigation Satellite System (GNSS))

b. DO-356A—Airworthiness Security Methods and Considerations prepared by SC-216, Aeronautical Systems Security

c. DO-213A Change 1—Minimum Operational Performance Standards for Nose-Mounted Radomes prepared by SC-230 (Weather Detection Systems)

d. DO-220A Change 1—Minimum Operational Performance Standards (MOPS) for Airborne Weather Radar Systems prepared by SC-230 (Weather Detection Systems)

4. Integration and Coordination Meeting (ICC)

5. Cross Cutting Committee (CCC)

6. Past Action Item Review

7. Discussion

a. SC-206—Aeronautical Information and Meteorological Data Link Services—Discussion—Revised TOR

b. SC-213—Enhanced Flight Vision Systems/Synthetic Vision—Discussion—Possible Revised TOR

c. SC-230—Weather Detection Systems—Discussion—Revised TOR

d. SC-236—Standards for Wireless Avionics Intra-Communication System (WAIC) within 4300-4400 MHz—Discussion—Revised TOR

e. NAC—Status Update

f. DAC—Status Update

g. FAA Actions Taken on Previously Published Documents—Report

h. Special Committees—Chairmen's Reports and Active Inter-Special Committee Requirements Agreements (ISRA)—Review

i. European/EUROCAE Coordination—Status Update

8. Other Business

9. Schedule for Committee Deliverables and Next Meeting Date

10. New Action Item Summary

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on May 3, 2018.
Michelle Swearingen,
Systems and Equipment Standards Branch, AIR-6B0, Policy and Innovation Division, AIR-600, Federal Aviation Administration.

[FR Doc. 2018-09828 Filed 5-8-18; 8:45 am]

BILLING CODE 4910-13-P